DEPARTMENT OF THE INTERIOR

Office of the Special Trustee for American Indians

New Information Collection

AGENCY: Office of the Special Trustee for American Indians, Interior.

ACTION: Notice of Submission of Information Collection to the Office of Management and Budget.

SUMMARY: In compliance with the Paperwork Reduction Act of 1995, the Office of the Special Trustee for American Indians announces the submission of an information collection concerning Individual Indian Money (IIM) Accounts. This is a new collection for the Office of the Special Trustee for American Indians. Previously, this information collection, Individual Indian Money (IIM), OMB Control No. 1076-0154, had been submitted and cleared as a Bureau of Indian Affairs responsibility. The Bureau of Indian Affairs collection will expire prior to or concurrent with the time the new collection is approved by the Office of Management and Budget and assigned a new control number. The request to the Office of Management and Budget is to approve the new collection for a period of three years.

DATES: Comments must be submitted on or before October 30, 2003.

ADDRESSES: You may telefax your comments to: Attention: Desk Officer for the Interior Department, Office of Management and Budget, at (202) 395-6566. You may also e-mail comments to: OIRA DOCKET@omb.eop.gov. Send a copy of your comments to: Sarah Yepa, Office of Trust Regulations, Policies and Procedures, Office of the Special Trustee for American Indians, 505 Marquette NW., Suite 1000, Albuquerque, NM 87102.

FOR FURTHER INFORMATION CONTACT: Sarah Yepa, Telephone (505) 816-1003, Fax (505) 816-1377.

SUPPLEMENTARY INFORMATION: The American Indian Trust Fund Management Reform Act of 1994 (the Reform Act) makes provision for the Office of the Special Trustee for American Indians to administer trust fund accounts for individuals and tribes. The collection of information is required to facilitate the processing of deposits, investments, and distribution of monies held in trust by the U.S. Government and administered by the Office of the Special Trustee for American Indians. The collection of information provides the information needed to establish procedures to: deposit and retrieve funds from accounts, perform transactions such as cashing checks, reporting lost or stolen checks, stopping payment of checks, and general verification of account activities.

The collection showed 1,577,125 total burden hours when it was maintained by the Bureau of Indian Affairs with the OMB Control Number 1076-0154. Upon review of the collection, a total of 990,211 burden hours have been removed from the public burden; 114,700 burden hours are part of the federal burden; the remaining burden is the result of re-evaluating the number of responses for each collection. The review by the Office of the Special Trustee for American Indians resulted in a reduction of responses from 1,997,500 to 677,675; this is a reduction of 1,329,825 responses. The reduction in the overall burden results from activity generated by the collection. We reviewed the number of respondents. To arrive at the number of total respondents, we added 500 tribes to the 285,000 IIM accounts, for a total of 285,500 respondents. As required under 5 CFR 1320.8(d), a Federal Register notice soliciting comments on the proposed renewal of this collection of information was published on June 19, 2003 (68 FR 36837); no comments were received.

Request for Comments: The Office of the Special Trustee for American Indians requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

OMB Control Number: 1035-000X.

Type of review: New collection.

Title: Trust Funds for Tribes and Individual Indians, 25 CFR 115.

Brief Description of collection: This information collection is used to process deposits, investments, and distribution of monies held in trust by the Special Trustee for individual Indians and tribal governments and in the administration of these accounts. The respondents submit information in order to gain or retain a benefit, namely, access to funds held in trust. This collection covers 12 different kinds of submissions with the burden ranging from ½ hour to 16½ hours.

Respondents: Individual tribal members or tribes who wish to initiate some activity on their account.

Number of Respondents: 285,500.

Estimated Time per Response: Varies from ½ hour to 16½ hours.

Estimated Number of Responses Annually: 677,675.

Frequency of Response: As needed.

Total Annual Burden to Respondents: 472,214 hours.

Please note that an agency may not sponsor or request, and an individual need not respond to, a collection of information unless it has a valid OMB Control Number. OMB has up to 60 days to make a decision on the submission for renewal, but may make a decision after 30 days. Therefore, to receive the best consideration of your comments, you should submit them closer to 30 days than 60 days.

This regulation requires an information collection under the Paperwork Reduction Act. The existing OMB approval was originally submitted and cleared by the Bureau of Indian Affairs under OMB Control Number 1076-0154; it will be allowed to expire because the new collection of information will be assumed by the Office of the Special Trustee for American Indians. The information required is necessary for account holders to obtain and or retain benefits from Individual Indian Money (IIM) and tribal trust fund accounts. The collection of information hourly burden varies from ½ hour to 16½ hours, depending upon the specific need of the account holder and the form used for that purpose. The table below explains the collection activity.

Table of Burden for 25 CFR 115
CFR section | # of respondents: # of annual responses | Public respondents: Hourly burden per response | Public respondents: Total annual hourly burden | Public respondents: $10.00 x total hourly burden = Total hourly burden cost
15.705 | 142,500 | ½ | 71,250 | $712,500
115.813 | 500 | 16½ | 8,250 | 82,500
115 814 |  |  |  |
115.806 |  |  |  |
115.820 | 75 | ½ | 38 | 380
115.815 | 500 | 1¼ | 625 | 6,250
115.101 | 285,000 | ½ | 142,500 | 1,425,000
115.503 | 71,250 | ½ | 35,625 | 356,250
115.409 | 1,425 | ½ | 713 | 7,130
115.421 |  |  |  |
115.427 |  |  |  |
115.417 | 1,425 | ½ | 713 | 7,130
115.601 | 100,000 | 1 | 100,000 | 1,000,000
115.607 | 75,000 | 1½ | 112,500 | 1,125,000
Public total annual burden | 677,675 |  | 472,214 | $4,722,140

Documentation has been prepared and submitted to the Office of Management and Budget for review and approval of the information request.

We request comments on the information collection request. You may submit them to the locations in the ADDRESSES section. Your comments sent to the Office of the Special Trustee for American Indians will be available for public review at the Albuquerque location in the ADDRESSES section during regular business hours, Monday through Friday except for legal holidays. If you wish your name or address withheld, you must state this prominently at the beginning of your comment. We will honor your request to the extent allowed by law. There also may be circumstances in which we would withhold from the record a respondent's identity, as allowable by law. However, we will not consider anonymous comments. We will make all submissions from organizations or businesses, and from individuals identifying themselves as representatives or officials of organizations or businesses, available for public inspection in their entirety.

Ross O. Swimmer,
Special Trustee for American Indians.

[FR Doc. 03-24795 Filed 9-29-03; 8:45 am]

BILLING CODE 4310-2W-P